DEPARTMENT OF VETERANS AFFAIRS

Proposed Information Collection (Open Burn Pit Registry Airborne Hazard Self-Assessment Questionnaire) Activity; Extension of Comment Period

AGENCY: Veterans Health Administration, Department of Veterans Affairs.

ACTION: Notice; Extension of Comment Period.

SUMMARY: The Veterans Health Administration (VHA), Department of Veterans Affairs (VA), is extending the comment period for the notice published June 5, 2013 (78 FR 33894), and posting the draft questionnaire that was the subject of that notice, on the VA's Web site.

DATES: Written comments and recommendations on the proposed collection of information should be received on or before August 20, 2013.

ADDRESSES: Submit written comments on the collection of information through the Federal Docket Management System (FDMS) at www.Regulations.gov; or to Cynthia Harvey-Pryor, Veterans Health Administration (10B4), Department of Veterans Affairs, 810 Vermont Avenue NW., Washington, DC 20420 or email: cynthia.harvey-pryor@va.gov.

Please refer to “OMB Control No. 2900—NEW, Open Burn Pit Registry Airborne Hazard Self-Assessment Questionnaire,” in any correspondence. During the comment period, comments may be viewed online through FDMS.

FOR FURTHER INFORMATION CONTACT: Cynthia Harvey-Pryor at (202) 461-5870 or Fax (202) 495-5397.

SUPPLEMENTARY INFORMATION: On June 5, 2013, VA published a notice in the Federal Register (78 FR 33894) (FR Doc. 2013-13224) announcing an opportunity for public comment on a proposed collection of certain information by VA. This notice solicited comments on a draft questionnaire to collect information to ascertain and monitor the health effects of service members' exposure to toxic airborne chemicals and fumes caused by open burn pits. The notice listed a VA point of contact that provided the draft questionnaire to members of the public during the comment period.

In response to a suggestion from several Members of Congress, VA has decided to post the draft questionnaire on our Web site at http://www.publichealth.va.gov/docs/exposures/draft-questionnaire-burn-pit-registry.pdf and http://www.publichealth.va.gov/docs/exposures/justification-burn-pit-registry.pdf and is extending the comment period for an additional 15 days, to August 20, 2013.

Dated: July 19, 2013.
By direction of the Secretary.
Crystal Rennie,
Clearance Officer, Enterprise Records Service, Office of Information and Technology, Department of Veterans Affairs.

[FR Doc. 2013-17784 Filed 7-23-13; 8:45 am]

BILLING CODE 8320-01-P